GULF COAST ECOSYSTEM RESTORATION COUNCIL

[Docket No.: 106032016-1111-02]

Notice of Funding Availability for the Spill Impact Component of the RESTORE Act

AGENCY: Gulf Coast Ecosystem Restoration Council (Council).

ACTION: Notice.

SUMMARY: The Gulf Coast Ecosystem Restoration Council (Council) announces the Notice of Funding Availability for the Spill Impact Component of the of the Resources and Ecosystems Sustainability, Tourist Opportunities, and Revived Economies of the Gulf Coast States Act of 2012 (RESTORE Act), 33 U.S.C. 1321(t)(3).

DATES: State Expenditure Plans (SEPs), the first step in the process, will be accepted on a rolling basis, starting with the date of publication of the NOFA on Grants.gov, May 25, 2016.

FOR FURTHER INFORMATION CONTACT: Kristin Smith, Council staff, telephone number: 504-444-3558.

SUPPLEMENTARY INFORMATION: The Council is authorized to award grants pursuant to the Spill Impact Component of the Resources and Ecosystems Sustainability, Tourist Opportunities, and Revived Economies of the Gulf Coast States Act of 2012 (RESTORE Act),33 U.S.C. 1321(t)(3). The Council announces the Spill Impact Component Notice of Funding Availability (NOFA). The NOFA provides guidance to eligible entities on the steps necessary to submit an SEP for approval in the first phase as required by the RESTORE Act and to complete the second phase of submitting their grant applications for individual projects and programs contained in the State's approved SEP. Only projects contained in an approved SEP are eligible. The full text of the NOFA can be found at www.grants.gov and at https://www.restorethegulf.gov/spill-impact-component.

Will D. Spoon,
Program Analyst, Gulf Coast Ecosystem Restoration Council.

[FR Doc. 2016-13059 Filed 6-2-16; 8:45 am]

BILLING CODE 6560-58-P